DEPARTMENT OF STATE

[Public Notice 6562]

60-Day Notice of Proposed Information Collection: DS-0174, Application for Employment as a Locally Employed Staff or Family Member, OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Department of State Application for Employment as a Locally Employed Staff or Family Member.

• OMB Control Number: 1405-XXXX.

• Type of Request: New collection.

• Originating Office: Bureau of Human Resources, Office of Overseas Employment (HR/OE).

• Form Number: DS-0174.

• Respondents: Candidates seeking employment at U.S. Missions abroad, including family members of Foreign Service, Civil Service, and uniformed service members officially assigned to the Mission and under Chief of Mission authority.

• Estimated Number of Respondents: 40,000.

• Estimated Number of Responses: 40,000.

• Average Hours per Response: 1 hour.

• Total Estimated Burden: 40,000.

• Frequency: On occasion.

• Obligation to Respond: Required to obtain a benefit.

DATES: The Department will accept comments from the public up to 60 days from March 31, 2009.

ADDRESSES: You may submit comments by any of the following methods:

• E-mail: McCoyFV@state.gov.

• Mail (Paper, Disk, or CD-ROM Submissions): U.S. Department of State—SA-1, HR/OE, Room 615H, Attention: Frank Venson McCoy, 2401 E Street NW., Washington, DC 20522.

You must include the DS form number (if applicable), information collection title, and OMB control number in any correspondence.

FOR FURTHER INFORMATION CONTACT: Direct requests for additional information regarding the collection listed in this notice, including requests for copies of the proposed information collection and supporting documents, to Frank Venson McCoy, Bureau of Human Resources, Office of Overseas Employment, U.S. Department of State, Washington, DC 20520, who may be reached on 202-261-8836 or at McCoyFV@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The DS-0174, Application for Employment as a Locally Employed Staff or Family Member, is needed to meet information collection requirements for recruitments conducted at approximately 170 U.S. embassies and consulates throughout the world. Current employment application forms do not meet the unique requirements of Mission recruitment (e.g., language skills and hiring preferences) under the FS Act of 1980 and 22 U.S.C. 2669(c). The DS -0174 is needed to improve data gathering and to clarify interpretation of candidate responses.

Methodology

Candidates for employment use the DS-0174 to apply for Mission-advertised positions throughout the world. Mission recruitments generate approximately 40,000 applications per year. Data that HR and hiring officials extract from the DS-0174 determines eligibility for employment, qualifications for the position, and selections according to Federal policies.

Dated: March 4, 2009.
Ruben Torres,
Director, HR/EX, Department of State.

[FR Doc. E9-7212 Filed 3-30-09; 8:45 am]

BILLING CODE 4710-15-P